DEPARTMENT OF HOMELAND SECURITY

Federal Emergency Management Agency

[Docket ID FEMA-2024-0002; Internal Agency Docket No. FEMA-B-2439]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Colorado:
Adams | City of Thornton (23-08-0553P). | The Honorable Janifer Kulmann, Mayor, City of Thornton, 9500 Civic Center Drive, Thornton, CO 80229. | City Hall, 9500 Civic Center Drive, Thornton, CO 80229. | https://msc.fema.gov/portal/advanceSearch. | Sep. 20, 2024 | 080125
Adams | Unincorporated areas of Adams County (23-08-0553P). | Emma Pinter, Chair, Adams County Board of Commissioners, 4430 South Adams County Parkway, Brighton, CO 80601. | Adams County Community and Economic Development Department, 4430 South Adams County Parkway, 1st Floor, Suite W2000, Brighton, CO 80601. | https://msc.fema.gov/portal/advanceSearch. | Sep. 20, 2024 | 080001
Douglas | Unincorporated areas of Douglas County (23-08-0606P). | George Teal, Chair, Douglas County Board of Commissioners, 100 3rd Street, Castle Rock, CO 80104. | Department of Public Works Engineering, 100 3rd Street, Castle Rock, CO 80104. | https://msc.fema.gov/portal/advanceSearch. | Sep. 13, 2024 | 080049
Montrose | City of Montrose (22-08-0573P). | The Honorable J. David Reed, Mayor, City of Montrose, 400 East Main Street, Montrose, CO 81401. | City Hall, 433 South 1st Street, Montrose, CO 81401. | https://msc.fema.gov/portal/advanceSearch. | Sep. 12, 2024 | 080125
Montrose | Unincorporated areas of Montrose County (22-08-0573P). | Roger Rash, Chair, Montrose County Board of Commissioners, 1140 North Grand Avenue, Suite 250, Montrose, CO 81401. | Montrose County Government Center, 320 South 1st Street, Montrose, CO 81401. | https://msc.fema.gov/portal/advanceSearch. | Sep. 12, 2024 | 080124
Florida:
Manatee | Unincorporated areas of Manatee County (23-04-6510P). | Charlie Bishop, Manatee County Administrator, 1112 Manatee Avenue West, Bradenton, FL 34205. | Manatee County Administration Building, 1112 Manatee Avenue West, Bradenton, FL 34205. | https://msc.fema.gov/portal/advanceSearch. | Sep. 23, 2024 | 120153
Pasco | Unincorporated areas of Pasco County (23-04-1143P). | Jack Mariano, Chair, Pasco County Board of Commissioners, 37918 Meridian Avenue, Dade City, FL 33525. | Pasco County Building Construction Services Department, 8731 Citizens Drive, Suite 230, New Port Richey, FL 34654. | https://msc.fema.gov/portal/advanceSearch. | Sep. 5, 2024 | 120230
Pinellas | City of Clearwater (23-04-5852P). | The Honorable Bruce Rector, Mayor, City of Clearwater, 100 South Myrtle Avenue, Clearwater, FL 33756. | City Hall, 100 South Myrtle Avenue, Clearwater, FL 33756. | https://msc.fema.gov/portal/advanceSearch. | Sep. 13, 2024 | 125096
Volusia | City of Daytona Beach (24-04-1863P). | The Honorable Derrick Henry, Mayor, City of Daytona Beach, 301 South Ridgewood Avenue, Daytona Beach, FL 32114. | City Hall, 301 South Ridgewood Avenue, Daytona Beach, FL 32114. | https://msc.fema.gov/portal/advanceSearch. | Sep. 12, 2024 | 125099
North Carolina: Mecklenburg | Town of Cornelius (24-04-0324P). | The Honorable Woody Washam, Mayor, Town of Cornelius, P.O. Box 399, Cornelius, NC 28031. | Town Hall, 21445 Catawba Avenue, Cornelius, NC 28031. | https://msc.fema.gov/portal/advanceSearch. | Sep. 11, 2024 | 370498
North Dakota:
McKenzie | City of Alexander (23-08-0604P). | The Honorable Kenneth Willcox, Mayor, City of Alexander, P.O. Box 336, Alexander, ND 58831. | City Hall, 112 Manning Avenue, Alexander, ND 58831. | https://msc.fema.gov/portal/advanceSearch. | Sep. 12, 2024 | 380055
McKenzie | Unincorporated areas of McKenzie County (23-08-0604P). | Howdy Lawlar, Chair, McKenzie County Board of Commissioners, 201 5th Street Northwest, Suite 543, Watford City, ND 58854. | McKenzie County Public Works Department, 1300 12th Street Southeast, Watford City, ND 58854. | https://msc.fema.gov/portal/advanceSearch. | Sep. 12, 2024 | 380054
South Carolina: York | Unincorporated areas of York County (23-04-6209P). | David Hudspeth, York County Manager, 6 South Congress Street, York, SC 29745. | York County Planning and Development Services Department, 18 West Liberty Street, York, SC 29745. | https://msc.fema.gov/portal/advanceSearch. | Sep. 12, 2024 | 450193
Tennessee: Rutherford | City of Murfreesboro (24-04-2722P). | The Honorable Shane McFarland, Mayor, City of Murfreesboro, 111 West Vine Street, Murfreesboro, TN 37130. | City Hall, 111 West Vine Street, Murfreesboro, TN 37130. | https://msc.fema.gov/portal/advanceSearch. | Sep. 4, 2024 | 470168
Texas:
Bexar | City of San Antonio (23-06-1913P). | The Honorable Ron Nirenberg, Mayor, City of San Antonio, P.O. Box 839966, San Antonio, TX 78283. | Transportation and Capital Improvements Department, Storm Water Division, 1901 South Alamo Street, 2nd Floor, San Antonio, TX 78214. | https://msc.fema.gov/portal/advanceSearch. | Sep. 9, 2024 | 480045
Bexar | City of San Antonio (23-06-2731P). | The Honorable Ron Nirenberg, Mayor, City of San Antonio, P.O. Box 839966, San Antonio, TX 78283. | Transportation and Capital Improvements Department, Storm Water Division, 1901 South Alamo Street, 2nd Floor, San Antonio, TX 78214. | https://msc.fema.gov/portal/advanceSearch. | Sep. 9, 2024 | 480045
Bexar | City of San Antonio (24-06-0704P). | The Honorable Ron Nirenberg, Mayor, City of San Antonio, P.O. Box 839966, San Antonio, TX 78283. | Transportation and Capital Improvements Department, Storm Water Division, 1901 South Alamo Street, 2nd Floor, San Antonio, TX 78214. | https://msc.fema.gov/portal/advanceSearch. | Aug. 26, 2024 | 480045
Bexar | Unincorporated areas of Bexar County (23-06-2243P). | The Honorable Peter Sakai, Bexar County Judge, 101 West Nueva Street, 10th Floor, San Antonio, TX 78205. | Bexar County Public Works Department, 1948 Proband Street, San Antonio, TX 78214. | https://msc.fema.gov/portal/advanceSearch. | Sep. 16, 2024 | 480035
Collin | Unincorporated areas of Collin County (23-06-2300P). | The Honorable Chris Hill, Collin County Judge, 2300 Bloomsdale Road, McKinney, TX 75071. | Juvenile Justice Alternative Education Program Building, 4690 Community Avenue, Suite 200, McKinney, TX 75071. | https://msc.fema.gov/portal/advanceSearch. | Sep. 16, 2024 | 480130
Denton | City of Denton (23-06-0359P). | Sara Hensley, City of Denton Manager, 215 East McKinney Street, Denton, TX 76201. | Development Services Department, 401 North Elm Street, Denton, TX 76201. | https://msc.fema.gov/portal/advanceSearch. | Sep. 9, 2024 | 480194
Denton | Unincorporated areas of Denton County (23-06-0359P). | The Honorable Andy Eads, Denton County Judge, 1 Courthouse Drive, Suite 3100, Denton, TX 76208. | Denton County Development Services Department, 3900 Morse Street, Denton, TX 76208. | https://msc.fema.gov/portal/advanceSearch. | Sep. 9, 2024 | 480774
Denton | Unincorporated areas of Denton County (24-06-0136P). | The Honorable Andy Eads, Denton County Judge, 1 Courthouse Drive, Suite 3100, Denton, TX 76208. | Denton County Development Services Department, 3900 Morse Street, Denton, TX 76208. | https://msc.fema.gov/portal/advanceSearch. | Sep. 16, 2024 | 480774
Ellis | City of Venus (23-06-0989P). | The Honorable Alejandro Galaviz, Mayor, City of Venus, 700 West U.S. Highway 67, Venus, TX 76084. | Department of Public Works, 700 West U.S. Highway 67, Venus, TX 76084. | https://msc.fema.gov/portal/advanceSearch. | Sep. 16, 2024 | 480883
Ellis | Unincorporated areas of Ellis County (23-06-0989P). | The Honorable Todd Little, Ellis County Judge, 101 West Main Street, Waxahachie, TX 75165. | Ellis County Engineering Department, 109 South Jackson Street, Waxahachie, TX 75165. | https://msc.fema.gov/portal/advanceSearch. | Sep. 16, 2024 | 480798
Guadalupe | City of New Braunfels (23-06-2669P). | Robert Camareno, Manager, City of New Braunfels, 550 Landa Street, New Braunfels, TX 78130. | City Hall, 550 Landa Street, New Braunfels, TX 78130. | https://msc.fema.gov/portal/advanceSearch. | Sep. 12, 2024 | 485493
Hays | City of Kyle (24-06-0264P). | The Honorable Travis Mitchell, Mayor, City of Kyle, 100 West Center Street, Kyle, TX 78640. | City Hall, 100 West Center Street, Kyle, TX 78640. | https://msc.fema.gov/portal/advanceSearch. | Sep. 12, 2024 | 481108
Johnson | City of Cleburne (23-06-0045P). | The Honorable Scott Cain, Mayor, City of Cleburne, P.O. Box 677, Cleburne, TX 76031. | City Hall, 10 North Robinson Street, Cleburne, TX 76033. | https://msc.fema.gov/portal/advanceSearch. | Aug. 30, 2024 | 485462
Kaufman | City of Forney (23-06-1347P). | The Honorable Jason Roberson, Mayor, City of Forney, P.O. Box 826, Forney, TX 75126. | City Hall, 101 East Main Street, Forney, TX 75126. | https://msc.fema.gov/portal/advanceSearch. | Sep. 13, 2024 | 480410
Nueces | City of Corpus Christi (23-06-1985P). | The Honorable Paulette M. Guajardo, Mayor, City of Corpus Christi, 1201 Leopard Street, Corpus Christi, TX 78401. | City Hall, 1201 Leopard Street, Corpus Christi, TX 78401. | https://msc.fema.gov/portal/advanceSearch. | Sep. 16, 2024 | 485464
Tarrant | City of Crowley (23-06-2689P). | The Honorable Billy P. Davis, Mayor, City of Crowley, 201 East Main Street, Crowley, TX 76036. | Planning and Development Department, 201 East Main Street, Crowley, TX 76036. | https://msc.fema.gov/portal/advanceSearch. | Sep. 9, 2024 | 480591
Utah: Tooele | City of Tooele (23-08-0698P). | The Honorable Debbie Winn, Mayor, City of Tooele, 90 North Main Street, Tooele, UT 84074. | Engineering Department, 90 North Main Street, Tooele, UT 84074. | https://msc.fema.gov/portal/advanceSearch. | Aug. 22, 2024 | 490145

[FR Doc. 2024-12522 Filed 6-6-24; 8:45 am]

BILLING CODE 9110-12-P